DEPARTMENT OF THE TREASURY

Senior Executive Service, Departmental Performance Review Board

AGENCY: Treasury Department.

ACTION: Notice of members of the Departmental Performance Review Board (PRB).

SUMMARY: Pursuant to 5 U.S.C. 4314(c)(4), this notice announces the appointment of members of the Department PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

COMPOSITION OF DEPARTMENTAL PRB: The Board shall consist of at least three members. In the case of an appraisal of a career appointee, more than half the members shall consist of career appointees. The names and titles of the PRB members are as follows:

Lisa G. Ross, Acting Assistant Secretary for Management and Chief Financial Officer—Chairperson

Kay Frances Dolan, Deputy Assistant Secretary for Human Resources

John P. Simpson, Deputy Assistant Secretary (Regulatory, Tariff & Enforcement)

James E. Johnson, Under Secretary (Enforcement)

David A. Lebryk, Deputy Assistant Secretary for Fiscal Operations and Policy

Margrethe Lundsager, Deputy Assistant Secretary (Trade & Investment Policy) Mary E. Chaves, Director, Office of International Debt Policy

Jane L. Sullivan, Director, Office of Information Resources Management

Joan Affleck-Smith, Director, Office of Financial Institutions Policy

Bradley A. Buckles, Director, Bureau of Alcohol, Tobacco and Firearms

Mark Logan, Deputy Assistant Director (Criminal Enforcement Field Operations—Western), Bureau of Alcohol, Tobacco and Firearms

Douglas M. Browning, Assistant Commissioner (International Affairs), U.S. Customs Service

Marjorie L. Budd, Assistant Commissioner (Training and Development), U.S. Customs Service

William F. Riley, Director, Office of Planning, U.S. Customs Service

Brian L. Stafford, Director, U.S. Secret Service

Kevin T. Foley, Deputy Director, U.S. Secret Service

W. Ralph Basham, Director, Federal Law Enforcement Training Center

John P. Mitchell, Deputy Director, U.S. Mint

Jackquelyn E. Fletcher, Associate Director/CIO, U.S. Mint

Richard L. Gregg, Commissioner, Financial Management Service

Kenneth R. Papaj, Deputy Commissioner, Financial Management Service

Thomas A. Ferguson, Director, Bureau of Engraving and Printing

William H. Gillers, Assistant Director (Environmental and Safety), Bureau of Engraving and Printing

David A. Mader, Chief Officer, Management and Finance, Internal Revenue Service

Evelyn A. Petschek, Commissioner, Tax Exempt and Government Entities, Internal Revenue Service

Darlene R. Berthod, Deputy Commissioner, Tax Exempt and Government Entities, Internal Revenue Service

John M. Dalrymple, Chief Operations Officer, Internal Revenue Service

Toni L. Zimmerman, Deputy CIO (Information Resources), Internal Revenue Service

Deborah M. Nolan, Deputy Division Commissioner, Large and Mid-Sized Business Division, Internal Revenue Service

Frederic V. Zeck, Commissioner, Bureau of the Public Debt

Kenneth R. Schmalzbach, Assistant General Counsel (General Law & Ethics)

Roberta K. McInerney, Assistant General Counsel (Banking & Finance)

DATES: Membership is effective on the date of this notice.

FOR FURTHER INFORMATION CONTACT: Ronald A. Glaser, Department of the Treasury, Director, Office of Personnel Policy, Metropolitan Square Building, Room 6075, 15th and Pennsylvania Ave., NW., Washington, DC 20220, Telephone: (202) 622-1890.

This notice does not meet the Department's criteria for significant regulations.

Ronald A. Glaser,
Director, Office of Personnel Policy.

[FR Doc. 00-21538 Filed 8-22-00; 8:45 am]

BILLING CODE 4810-25-M